DEPARTMENT OF THE INTERIOR

Fish and Wildlife Service

[Docket No. FWS-R7-ES-2014-0060; FF07CAMM00 FXES11130700000]

Endangered and Threatened Wildlife and Plants; Notice of Availability of Draft Polar Bear Conservation Management Plan

AGENCY: Fish and Wildlife Service, Interior.

ACTION: Notice of document availability for review and public comment.

SUMMARY: We, the U.S. Fish and Wildlife Service (Service), announce the availability of our draft Polar Bear Conservation Management Plan (Polar Bear Plan). The polar bear is listed as threatened under the Endangered Species Act of 1973, as amended, and is also considered “depleted” under the Marine Mammal Protection Act of 1972, as amended. The draft Polar Bear Plan identifies objective, measurable recovery criteria, site-specific recovery actions, and time and cost estimates, and also serves as a conservation plan. We request review and comment on the Polar Bear Plan from agencies, organizations, and individuals with an interest in polar bear conservation.

DATES: To ensure consideration of your comments in our preparation of the final plan, we must receive your comments and information by August 20, 2015. However, we will accept information about any species at any time.

ADDRESSES: Document availability: The draft Polar Bear Plan is available for viewing at http://www.fws.gov/alaska/pbrt/ or at www.regulations.gov at Docket No. FWS-R7-ES-2014-0060.

Comment submission: You may submit comments on the draft Polar Bear Plan by one of the following methods:

• U.S. mail or hand-delivery: Public Comments Processing, ATTN: FWS-R7-ES-2014-0060, U.S. Fish and Wildlife Service Headquarters, MS: BPHC, 5275 Leesburg Pike, Falls Church, VA 22041-3803; or

• Federal eRulemaking Portal: http://www.regulations.gov. Follow the instructions for submitting comments to Docket No. FWS-R7-ES-2014-0060.

FOR FURTHER INFORMATION CONTACT: Mary Colligan, Chief, Marine Mammals Management, by telephone at 907-786-3800; by U.S. mail at Marine Mammals Management, U.S. Fish and Wildlife Service, 1011 East Tudor Road, Anchorage, AK 99503; or by email at mary_colligan@fws.gov. Persons who use a telecommunications device for the deaf (TDD) may call the Federal Information Relay Service (FIRS) at 800-877-8339.

SUPPLEMENTARY INFORMATION: We announce the availability of our draft Polar Bear Conservation Management Plan (Polar Bear Plan). The polar bear (Ursus maritimus) was listed throughout its range as threatened under the Endangered Species Act of 1973, as amended (16 U.S.C. 1531 et seq.) (ESA). Because of its threatened status under the ESA, the species is also considered “depleted” under the Marine Mammal Protection Act of 1972, as amended (16 U.S.C. 1361 et seq.) (MMPA). As required under the ESA section 4(f), the draft Polar Bear Plan identifies “objective, measurable” recovery criteria and site-specific recovery actions with estimated time and cost to completion for the polar bear. The Polar Bear Plan also serves as a conservation plan under the MMPA with a goal of conserving and restoring depleted marine mammals to their optimum sustainable population level, and will contribute to our international polar bear conservation efforts under the 1973 Agreement on the Conservation of Polar Bears (T.I.A.S. No. 8409). We request review and comment on the Polar Bear Plan from agencies, organizations, and individuals with an interest in polar bear conservation.

Background

We listed the polar bear as threatened on May 15, 2008 (73 FR 28212). For description, taxonomy, distribution, status, breeding biology and habitat, and a summary of factors affecting the species, please see the final listing rule. Recovery of endangered or threatened animals and plants is a primary goal of our endangered species program and the ESA. To help guide the recovery effort, we prepare recovery plans for most listed species native to the United States. Further, the ESA requires that we develop recovery plans for listed species, unless such a plan would not promote the conservation of a particular species, and that we provide public notice and an opportunity for public review and comment during recovery plan development. Recovery plans describe actions considered necessary for the conservation and survival of the species, establish criteria for delisting listed species, and estimate time and cost for implementing needed recovery measures.

MMPA Conservation Plans have the purpose of conserving and restoring a species or stock to its optimum sustainable population. The MMPA further provides that Conservation Plans shall be modeled on ESA recovery plans. Therefore, once finalized, the Polar Bear Plan will provide us with recommended management actions for the survival and recovery of the species, and to conserve and restore the species to its optimum sustainable population.

Polar bears evolved to utilize the Arctic sea ice niche and are distributed throughout most ice-covered seas of the United States, Canada, the Russian Federation, Norway and Greenland/Denmark (Range States), in the Northern Hemisphere (see Figure 1 of the May 15, 2008, Listing Rule; 73 FR 28216). At the time of our 2008 final listing rule, we estimated the worldwide population of polar bears to be between 20,000 and 25,000 (73 FR 28215).

At the time of the listing, we determined that ongoing and projected loss of the polar bear's crucial sea ice habitat threatens the species throughout all of its range. Productivity, abundance, and availability of ice seals, the polar bear's primary prey base, would be diminished by the projected loss of sea ice, and energetic requirements of polar bears for movement and obtaining food would increase. Access to traditional denning areas would be affected. In turn, these factors would cause declines in the condition of polar bears from nutritional stress and reduced productivity. The eventual effect of this loss of sea ice is that the polar bear population would decline. The rate and magnitude of decline would vary geographically, based on differences in the rate, timing, and magnitude of impacts. However, within the foreseeable future, the worldwide population would be affected, and the species is likely to become in danger of extinction throughout all of its range (73 FR 28292-28293). As the Service explained in its listing determination, global climate change resulting from greenhouse gas emissions is the root cause of the loss of Arctic sea ice.

The Plan

The Polar Bear Plan is more broadly focused than a typical recovery or conservation plan. At its core, the Polar Bear Plan contains a set of fundamental goals reflecting shared values of its diverse stakeholders. The fundamental goals express the intentions of the Polar Bear Plan and will be used to guide management, research, monitoring, and communication. They include the goals of the MMPA and the ESA, as they relate to polar bear conservation and recovery. Beyond the statutory mandates, the fundamental goals also reflect the input and aspirations of stakeholders closely connected with polar bears and their habitat, including the State of Alaska, the North Slope Borough, Alaska Native peoples, the Polar Bear Range States, conservation groups, and the oil and gas industry. In most cases, the fundamental goals represent range-wide objectives, but the specific applications under this Polar Bear Plan pertain primarily to the polar bear subpopulations (or stocks) present in Alaska. The goals call for a focus on conservation of polar bears while recognizing values associated with subsistence take, human safety, and economic activity. The draft Polar Bear Plan also contains specific recovery criteria, expressed in demographic and threats-based terms, to determine when the polar bear should be considered for delisting under the ESA, and demographic criteria to guide satisfying the conservation goals of the MMPA.

Conservation and recovery actions are specified in the Polar Bear Plan. The single most important action for the recovery of polar bears is global reduction of atmospheric greenhouse gases, which, if achieved, should result in reduced global climate change, including Arctic warming and sea ice loss. Along with communicating that fact, the Polar Bear Plan identifies a suite of high-profile actions designed to ensure that polar bears remain in sufficient number and diversity so that they are in a position to recover once climate change is addressed. Those actions include the following:

• Limit global atmospheric levels of greenhouse gases to levels appropriate for supporting polar bear recovery and conservation, primarily by reducing greenhouse gas emissions Support international conservation efforts through the Range States relationships

• Manage human-bear conflicts

• Collaboratively manage subsistence harvest

• Protect denning habitat

• Minimize risks of contamination from spills

• Conduct strategic monitoring and research

The full cost of implementing this Polar Bear Plan over the next 5 years is approximately $12,921,200.

Request for Public Comments

We request written comments on the draft Polar Bear Plan. All comments received by the date specified in DATES will be considered prior to finalization of the Polar Bear Plan. If you wish to comment, you may submit your comments and materials concerning this Plan by one of the methods listed in ADDRESSES.

Comments and materials received, as well as supporting documentation used in preparation of the recovery plan, will be available for inspection, during normal business hours at the Service's Anchorage office (see FOR FURTHER INFORMATION CONTACT).

This draft Polar Bear Plan represents the views and interpretations of the Service regarding the conservation and recovery of the polar bear only. The Service's approach set forth in this draft Polar Bear Plan does not necessarily preclude other approaches in developing ESA recovery plans or MMPA conservation plans. We seek comments from the public regarding viable alternatives for plans involving ice-dependent species and will consider all comments prior to finalizing this plan.

In addition, we specifically seek comments on the following:

(1) The scope and description of the six fundamental goals.

(2) The suitability and feasibility of the MMPA demographic criteria related to human-caused removals and to the health of the marine ecosystem of which polar bears are part.

(3) The suitability and feasibility of the ESA fundamental, demographic, and threats-based recovery criteria.

(4) The use of ecoregions as recovery units to represent the genetic, behavioral, life-history, and ecological diversity of the species.

(5) The conservation strategy and specific suite of high-priority conservation and recovery actions.

Public Availability of Comments

Before including your address, phone number, email address, or other personal identifying information in your comment, you should be aware that your entire comment—including your personal identifying information—may be made publicly available at any time. While you can ask us in your comment to withhold your personal identifying information from public review, we cannot guarantee that we will be able to do so.

Authority

We developed our draft recovery plan under the authority of ESA section 4(f), 16 U.S.C. 1533(f), as well as section 115(b) of the MMPA, 16 U.S.C. 1383b(b). We publish this notice under ESA section 4(f) (16 U.S.C. 1531 et seq.).

Dated: June 5, 2015.
Geoffrey L. Haskett,
Regional Director, Alaska Region, U.S. Fish and Wildlife Service.

[FR Doc. 2015-16249 Filed 7-2-15; 8:45 am]

BILLING CODE 4310-55-P